DEPARTMENT OF HEALTH AND HUMAN SERVICES

Substance Abuse and Mental Health Services Administration

Center for Mental Health Services; Notice of Meeting

Pursuant to Public Law 92-463, notice is hereby given that the Center for Mental Health Services (CMHS) National Advisory Council will meet on August 25, 2008 from 3 p.m. to 4 p.m. via teleconference.

The meeting will include the review, discussion and evaluation of grant applications. Therefore the meeting will be closed to the public as determined by the Administrator, SAMHSA, in accordance with Title 5 U.S.C. 552b(c)(6) and 5 U.S.C. App. 2. § 10(d).

Substantive program information, a summary of the meetings and a roster of Council members may be obtained as soon as possible after each meeting, either by accessing the SAMHSA Committee Web site at http://www.nac.samhsa.gov, or by contacting CMHS National Advisory Council's Designated Federal Official, Ms. Dianne McSwain (see contact information below).

Committee Name: SAMHSA Center for Mental Health Services National Advisory Council.

Date/Time/Type: August 25, 2008, from 3 p.m. to 4 p.m.: Closed.

Place(s): SAMHSA Building, 1 Choke Cherry Road, Conference Room 6-1060, Rockville, Maryland 20857.

Contact: Dianne McSwain, M.S.W., Designated Federal Official, 1 Choke Cherry, Rm. 6-1063, Rockville, Maryland 20857, Telephone: (240) 276-1828, Fax: (240) 276-1850, e-mail: Dianne.McSwain@samhsa.hhs.gov.

This notice is being published less than 15 days prior to the meeting due to the timing limitations imposed by the review and funding cycle.

Toian Vaughn,
Committee Management Officer, Substance Abuse and Mental Health Services Administration.

[FR Doc. E8-19360 Filed 8-20-08; 8:45 am]

BILLING CODE 4162-20-P